DEPARTMENT OF DEFENSE

Department of the Navy

Privacy Act of 1974; System of Records

AGENCY: Department of the Navy, DoD

ACTION: Notice to amend records systems.

SUMMARY: The Department of the Navy proposes to amend two systems of records notices in its inventory of record systems subject to the Privacy Act of 1974 (5 U.S.C. 552a), as amended.

DATES: The amendments will be effective on April 8, 2002 unless comments are received that would result in a contrary determination.

ADDRESSES: Send comments to Department of the Navy, PA/FOIA Policy Branch, Chief of Naval Operations, DNS10, 2000 Navy Pentagon, Washington, DC 20350-2000.

FOR FURTHER INFORMATION CONTACT: Mrs. Doris Lama at (202) 685-6545 or DSN 325-6545.

SUPPLEMENTARY INFORMATION: The Department of the Navy's record system notices for records systems subject to the Privacy Act of 1974 (5 U.S.C. 552a), as amended, have been published in the Federal Register and are available from the address above.

The Department of the Navy proposes to amend systems of records notices in its inventory of record systems subject to the Privacy Act of 1974 (5 U.S.C. 552a), as amended. The changes to the systems of records are not within the purview of subsection (r) of the Privacy Act of 1974 (5 U.S.C. 552a), as amended, which requires the submission of new or altered systems reports. The records systems being amended is set forth below, as amended, published in their entirety.

Dated: March 1, 2002.
L.M. Bynum,
Alternate OSD Federal Register Liaison Officer, Department of Defense.

N01500-2

System name:

Student/SMART Records (June 21, 2001, 66 FR 33240).

Changes:

* * * * *

System name:

Delete entry and replace with ‘Student/SMART/VLS Records.’

System location:

Delete entry and replace with ‘Student records are located at schools and other training activities or elements of the Department of the Navy and Marine Corps. Official mailing addresses are published as an appendix to the Navy’s compilation of systems of records notices.

Sailor/Marine American Council on Education Registry Transcript (SMART) database is maintained at the Naval Educational and Training Professional Development Technology Center, Code N6, 6490 Saufley Field Road, Pensacola, FL 32509-5237.

Vertical Launch System (VLS) records are maintained at the Naval Surface Warfare Center, Port Hueneme Division, Missile/Launcher Department, Launcher Systems Division (4W20), 4363 Missile Way, Port Hueneme, CA 93043-4307.’

Categories of individuals covered by the system:

Add a new paragraph ‘VLS records cover civilians, active duty Navy members, and Department of the Navy contractors.’

Categories of records in the system:

Add a new paragraph ‘VLS records: Name, quiz scores, homework scores, and test scores. In those instances when the student has performed below the minimum requirements, copies of the minutes of the Academic Review Board will be included.’

* * * * *

Purpose(s):

Add to entry ‘VLS records: To record course and training demands, requirements, and achievements; analyze student groups or courses; provide academic and performance evaluation in response to official inquiries; and provide guidance and counseling to students.’

* * * * *

Retention and disposal:

Add a new paragraph ‘VLS records: Destroyed 2 years after completion of training.’

* * * * *

N01500-2

System name:

Student/SMART/VLS Records.

System location:

Student records are located at schools and other training activities or elements of the Department of the Navy and Marine Corps. Official mailing addresses are published as an appendix to the Navy's compilation of systems of records notices.

Sailor/Marine American Council on Education Registry Transcript (SMART) database is maintained at the Naval Educational and Training Professional Development Technology Center, Code N6, 6490 Saufley Field Road, Pensacola, FL 32509-5237.

Vertical Launch System (VLS) records are maintained at the Naval Surface Warfare Center, Port Hueneme Division, Missile/Launcher Department, Launcher Systems Division (4W20), 4363 Missile Way, Port Hueneme, CA 93043-4307.

Categories of individuals covered by the system:

Student records cover present, former, and prospective students at Navy and Marine Corps schools and other training activities or associated educational institution of Navy sponsored programs; instructors, staff and support personnel; participants associated with activities of the Naval Education and Training Command, including the Navy College Office and other training programs; tutorial and tutorial volunteer programs; dependents' schooling.

SMART records cover Active duty Navy and Marine Corps members, reservists, and separated or retired Navy and Marine Corps members.

VLS records cover civilians, active duty Navy members, and Department of the Navy contractors.

Categories of records in the system:

Student records: Schools and personnel training programs administration and evaluation records. Such records as basic identification records i.e., Social Security Number, name, sex, date of birth, personnel records i.e., rank/rate/grade, branch of service, billet, expiration of active obligated service, professional records i.e., Navy enlisted classification, military occupational specialty for Marines, subspecialty codes, test scores, psychological profile, basic test battery scores, and Navy advancement test scores. Educational records i.e., education levels, service and civilian schools attended, degrees, majors, personnel assignment data, course achievement data, class grades, class standing, and attrition categories. Academic/training records, manual and mechanized, and other records of educational and professional accomplishment.

SMART records: Certified to be true copies of service record page 4; certificates of completion; college transcripts; test score completions; grade reports; Request for Sailor/Marine American Council on Education Registry Transcript.

VLS records: Name, quiz scores, homework scores, and test scores. In those instances when the student has performed below the minimum requirements, copies of the minutes of the Academic Review Board will be included.

Authority for maintenance of the system:

5 U.S.C. 301, Departmental Regulations and E.O. 9397 (SSN).

Purpose(s):

Student records: To record course and training demands, requirements, and achievements; analyze student groups or courses; provide academic and performance evaluation in response to official inquiries; provide guidance and counseling to students; prepare required reports; and for other training administration and planning purposes.

SMART records: To provide recommended college credit based on military experience and training to colleges and universities for review and acceptance. Requesters may have information mailed to them or the college(s)/university(ies) of their choice.

VLS records: To record course and training demands, requirements, and achievements; analyze student groups or courses; provide academic and performance evaluation in response to official inquiries; and provide guidance and counseling to students.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Policies and practices for storing, retrieving, accessing, retaining, and disposing of records in the system:

Storage:

Manual records may be stored in file folders, card files, file drawers, cabinets, or other filing equipment. Automated records may be stored on magnetic tape, discs, or in personal computers.

Retrievability:

Records are retrieved by name and Social Security Number.

Safeguards:

Access is provided on a ‘need-to-know’ basis and to authorized personnel only. Records are maintained in controlled access rooms or areas. Data is limited to personnel training associated information. Computer terminal access is controlled by terminal identification and the password or similar system. Terminal identification is positive and maintained by control points. Physical access to terminals is restricted to specifically authorized individuals. Password authorization, assignment and monitoring are the responsibility of the functional managers. Information provided via batch processing is of a predetermined and rigidly formatted nature. Output is controlled by the functional managers who also control the distribution of output.

Retention and disposal:

Student records: Destroyed after completion of training, transfer, or discharge, provided the data has been recorded in the individual's service record or on the student's record card.

SMART records: Automated SMART (transcripts) are retained permanently. Documents submitted to compile, update, or correct SMART records, which include service record page 4s, transcripts, and certificates, are destroyed after 3 years.

VLS records: Destroyed 2 years after completion of training.

System manager(s) and address:

For student records: The commanding officer of the activity in question. Official mailing addresses are published as an appendix to the Navy's compilation of systems of records notices.

For SMART records: Director, Navy College Center (N2A5), 6490 Saufley Field Road, Pensacola, FL 32509-5204.

For VLS records: Department Manager, Naval Surface Warfare Center, Port Hueneme Division, Missile/Launcher Department, Launcher Systems Division, 4363 Missile Way, Port Hueneme, CA 93043-4307.

Notification procedure:

Individuals seeking to determine whether information about themselves is contained in this system should address written inquiries to the appropriate official below:

For student records: Address inquiries to the commanding officer of the activity in question. Official mailing addresses are published as an appendix to the Navy's compilation of systems of records notices. Requester should provide his full name, Social Security Number, military or civilian duty status, if applicable, and other data when appropriate, such as graduation date. Visitors should present drivers license, military or Navy civilian employment identification card, or other similar identification.

For SMART records: Requester should address inquiries to the Director, Navy College Center (N2A5), 6490 Saufley Field Road, Pensacola, FL 32509-5204. Send a completed “Request for Sailor/Marine American Council on Education Registry Transcript” which solicits full name, command address, current rate/rank, Social Security Number, home and work telephone numbers, current status branch of service, etc., and must be signed.

For VLS records: Individuals seeking to determine whether information about themselves is contained in this system should address written inquiries to the Department Manager, Naval Surface Warfare Center, Port Hueneme Division, Missile/Launcher Department, Launcher Systems Division (4W20), 4363 Missile Way, Port Hueneme, CA 93043-4307. Requester should provide full name, Social Security Number, military, civilian, or contractor duty status, if applicable, and other data when appropriate, such as graduation date.

Record access procedures:

Individuals seeking to access information about themselves contained in this system should address written inquiries to the appropriate official below:

For student records: Address inquiries to the commanding officer of the activity in question. Official mailing addresses are published as an appendix to the Navy's compilation of systems of records notices. Requester should provide his full name, Social Security Number, military or civilian duty status, if applicable, and other data when appropriate, such as graduation date. Visitors should present drivers license, military or Navy civilian employment identification card, or other similar identification.

For SMART records: Requester should address inquiries to the Director, Navy College Center (N2A5), 6490 Saufley Field Road, Pensacola, FL 32509-5204. Send a completed “Request for Sailor/Marine American Council on Education Registry Transcript” which solicits full name, command address, current rate/rank, Social Security Number, home and work telephone numbers, current status branch of service, etc., and must be signed.

For VLS records: Requester should address inquiries to the Department Manager, Naval Surface Warfare Center, Port Hueneme Division, Missile/Launcher Department, Launcher Systems Division (4W20), 4363 Missile Way, Port Hueneme, CA 93043-4307. Requester should provide full name, Social Security Number, military, civilian or contractor duty status, if applicable, and other data when appropriate, such as graduation date.

Contesting record procedures:

The Navy's rules for accessing records, and for contesting contents and appealing initial agency determinations are published in Secretary of the Navy Instruction 5211.5; 32 CFR part 701; or may be obtained from the system manager.

Record source categories:

Individual; schools and educational institutions; Commander, Navy Personnel Command; Chief of Naval Education and Training; Commandant of the Marine Corps; Commanding Officer, Naval Special Warfare Center; Commander, Navy Recruiting Command; and instructor personnel.

Exemptions claimed for the system:

None.

N04650-1

System name:

Personnel Transportation System (September 9, 1996, 61 FR 47483).

Changes:

* * * * *

System name:

Delete ‘Personnel’ and replace with ‘Passenger’.

System location:

Delete entry and replace with ‘All Personnel Support Activity Detachments (PSD Dets) and Navy Passenger Transportation Offices Worldwide and Naval Support Activity, Bahrain. Official mailing addresses are published as an appendix to the Navy’s compilation of systems of records notices.’

* * * * *

Categories of records in the system:

Delete the phrase ‘requests for extension of time limit on travel by retired members to home of record;’

* * * * *

Retrievability:

Delete entry and replace with ‘Date of travel or passenger name. Applications for dependent's travel are filed under name of sponsor.’

* * * * *

Retention and disposal:

Delete entry and replace with ‘Records are retained for three years and then destroyed.’

* * * * *

N04650-1

System name:

Passenger Transportation System.

System location:

All Personnel Support Activity Detachments (PSD Dets) and Navy Passenger Transportation Offices Worldwide and Naval Support Activity, Bahrain. Official mailing addresses are published as an appendix to the Navy’s compilation of systems of records notices.

Categories of individuals covered by the system:

Navy military personnel (active and retired), civilian employees of the Navy, dependents, Midshipmen, and other individuals authorized through Navy commands to travel at Government expense.

Categories of records in the system:

Applications for travel and, where applicable, for passports and visas; requests for exceptions of policies/procedures involving travel entitlements/eligibilities; supporting documents; correspondence, and approvals/disapprovals relating to the above records; travel arrangements in response to above applications.

Authority for maintenance of the system:

5 U.S.C. 5702 et seq. Travel, Transportation and Subsistence; 10 U.S.C. 2631-2635 and Chapter 7; 37 U.S.C. 404, Travel and Transportation Allowances-General; and E.O. 9397 (SSN).

Purpose(s):

To provide official travel services; determine eligibility for transportation; to authorize or deny transportation; and otherwise manage the Navy-wide passenger transportation system. Information is also used for audit or research purposes to obtain background information/data.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To officials and employees of other departments and agencies of the Executive Branch of government, upon request, in the performance of their official duties related to the provision of transportation; diplomatic, official, and other no-cost passports; and visas to subject individuals.

To Foreign embassies, legations, and consular offices—to determine eligibility for visas to respective countries, if visa is required.

To Commercial Carriers providing transportation to individuals whose applications are processed through this system of records.

When required by Federal statute, by Executive Order, or by treaty, personnel record information will be disclosed to the individual, organization, or governmental agency as necessary.

The DoD ‘Blanket Routine Uses’ that appear at the beginning of the Navy's compilation of systems of records notices apply to this system.

Policies and practices for storing, retrieving, accessing, retaining, and disposing of records in the system:

Storage:

Automated records may be stored on magnetic tapes/disks. Manual records in file folders or file-card boxes, and microfiche or microfilm.

Retrievability:

Date of travel or passenger name. Applications for dependent's travel are filed under name of sponsor.

Safeguards:

Manual records are maintained in file cabinets under the control of authorized personnel during working hours. The office space in which the file cabinets are located is locked outside of official working hours. Computer terminals are located in supervised areas. Computer terminals are controlled by password or other user code system.

Retention and disposal:

Records are retained for three years and then destroyed.

System manager(s) and address:

Policy Official: Chief of Naval Operations (N413), 2000 Navy Pentagon, Washington, DC 20350-2000.

Record Holders:

Personnel Support Activity Detachments and Navy Passenger Transportation Offices Worldwide and Naval Support Activity, Bahrain. Official mailing addresses are published as an appendix to the Navy's compilation of systems of records notices.

Notification procedure:

Individuals seeking to determine whether information about themselves is contained in this system should address written inquiries to the local activity where the request for transportation was initiated. Official mailing addresses are published as an appendix to the Navy's compilation of systems of records notices.

The letter should contain date and location of travel, full name, address and signature of the requester.

Record access procedures:

Individuals seeking access to information about themselves contained in this system should address written inquiries to the local activity where the request for transportation was initiated. Official mailing addresses are published as an appendix to the Navy's compilation of systems of records notices.

The letter should contain date and location of travel, full name, address and signature of the requester.

Contesting record procedures:

The Navy's rules for accessing records, and for contesting contents and appealing initial agency determinations are published in Secretary of the Navy Instruction 5211.5; 32 CFR part 701; or may be obtained from the system manager.

Record source categories:

Individual; member's service record/civilian personnel file; officials and employees of the Department of the Navy, Department of Defense, State Department; and other agencies of the Executive Branch and components thereof; foreign embassies, legations, and consular offices reporting approval/disapproval of visas; and carriers reporting on provision of transportation.

Exemptions claimed for the system:

None.

[FR Doc. 02-5366 Filed 3-6-02; 8:45 am]

BILLING CODE 5001-08-P